DEPARTMENT OF EDUCATION

[Docket ID ED-2017-FSA-0056]

Privacy Act of 1974; System of Records

AGENCY: Federal Student Aid, Department of Education.

ACTION: Notice of a new and rescinded system of records.

SUMMARY: In accordance with the Privacy Act of 1974, as amended (Privacy Act), the Department of Education (Department) publishes this notice of a new system of records entitled “Integrated Partner Management” (IPM) system (18-11-21), and a rescinded system of records entitled “Postsecondary Education Participants System” (PEPS) (18-11-09).

DATES: Submit your comments on this proposed new and rescinded system of records notice on or before September 7, 2017.

The Department has filed a report describing the new system of records covered by this notice with the Chair of the Senate Committee on Homeland Security and Governmental Affairs, the Chair of the House Committee on Oversight and Government Reform, and the Acting Administrator of the Office of Information and Regulatory Affairs, Office of Management and Budget (OMB), on July 7, 2017. This new and rescinded system of records will become effective upon publication in the Federal Register on August 8, 2017, unless the new and rescinded system of records needs to be changed as a result of public comment or OMB review. The routine uses listed under “ROUTINE USES OF RECORDS MAINTAINED IN THE SYSTEM, INCLUDING CATEGORIES OF USERS AND PURPOSES OF SUCH USES” will become effective on September 7, 2017, unless the new system of records notice needs to be revised as a result of OMB review or public comment. The Department will publish any changes to the system of records or routine uses that result from public comment or OMB review.

ADDRESSES: Submit your comments through the Federal eRulemaking Portal or via postal mail, commercial delivery, or hand delivery. We will not accept comments submitted by fax or by email or those submitted after the comment period. To ensure that we do not receive duplicate copies, please submit your comments only once. In addition, please include the Docket ID and the term “Integrated Partner Management” at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about this system of records, address them to: Michele Brown, Director, Technical and Business Support Service Group, Program Compliance, Federal Student Aid, U.S. Department of Education, 830 First Street NE., Union Center Plaza (UCP), Room 82D4, Washington, DC 20202. Telephone: (202) 377-3203.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or aid, please contact the person listed under FOR FURTHER INFORMATION CONTACT.

FOR FURTHER INFORMATION CONTACT: Michele Brown, Director, Technical and Business Support Service Group, Program Compliance, Federal Student Aid, U.S. Department of Education, 830 First Street NE., Union Center Plaza (UCP), Room 82D4, Washington, DC 20202. Telephone: (202) 377-3203.

If you use a telecommunications device for the deaf (TDD) or a text telephone (TTY), you may call the Federal Relay Service, toll free, at 1-800-877-8339.

SUPPLEMENTARY INFORMATION:

Introduction

The Privacy Act (5 U.S.C. 552a(e)(4) and (11)) requires each Federal agency to publish in the Federal Register a notice of a new and rescinded system of records. The Department's regulations implementing the Privacy Act are contained in the Code of Federal Regulations (CFR) in 34 CFR part 5b.

The Privacy Act applies to information about an individual that is maintained in a system of records from which information is retrieved by a unique identifier associated with the individual, such as a name or Social Security number (SSN). The information about the individual is called a “record,” and the system, whether manual or computer based, is called a “system of records.”

The Privacy Act requires Federal agencies to publish a notice of a new system of records in the Federal Register and to submit a report to OMB whenever the agency publishes a new system of records or makes a significant change to an established system of records. Each agency is also required to send copies to the Chair of the Senate Committee on Homeland Security and Governmental Affairs and the Chair of the House Committee on Oversight and Government Reform. These reports are intended to permit an evaluation of the probable or potential effect of the proposal on the privacy rights of individuals.

The Privacy Act also requires Federal agencies to publish in the Federal Register a notice of rescindment when an agency stops maintaining a previously established system of records, but the rescission is not within the purview of subsection (r) of the Privacy Act; therefore, it is not required to be reported to OMB and Congress.

The Department identifies the PEPS system of records (18-11-09), as published in the Federal Register on June 4, 1999 (64 FR 30106, 30171-30173), and as amended on December 27, 1999 (64 FR 72384, 72405), to be rescinded because some of the records covered by this system of records will be maintained in the Department's IPM system (18-11-21). The Department takes this action so that it does not maintain duplicate systems of records.

The IPM system is a web-accessible system created by the Department to support eligibility determination and enrollment of entities seeking to participate in student aid programs under title IV of the Higher Education Act of 1965, as amended (HEA), and to oversee those entities' compliance with title IV, HEA's statutory and regulatory requirements.

The IPM system contains information on individuals with substantial ownership interests in, or control over, authorized entities (postsecondary schools, lenders, guaranty agencies, or third-party servicers that participate in title IV, HEA student financial aid programs) regarding the eligibility, administrative capabilities, and financial responsibility of the schools, lenders, guaranty agencies, and third-party servicers. Such information includes, but is not limited to, the names, taxpayer identification numbers, bank account numbers, SSNs, personal identification numbers, personal addresses, personal phone numbers, and personal email addresses of the individuals with substantial ownership interests in, or control over, those entities.

The IPM system also contains information about individuals affiliated with authorized entities who request electronic access to title IV, HEA, Federal Student Aid (FSA) systems. Such information includes, but is not limited to, the individual's name, SSN, date of birth, address, phone number, and authentication information (user ID, password, and security challenge questions and answers).

The IPM system will integrate a number of core partner management functions to deliver significant improvements from both a cost and customer satisfaction perspective. The partner management functions include enrollment, eligibility, and oversight processes used to manage partner entities as they administer title IV financial assistance. The IPM system will integrate the services currently provided by legacy systems into a single IPM solution. This integration will take an end-to-end view of FSA's entire partner eligibility and oversight business, which includes the following legacy systems: Postsecondary Education Participants System (PEPS), Electronic Application for Approval to Participate in Federal Student Financial Aid Programs (eApp), eZ-Audit, Integrated Partner Management Document Management (IPM DM), and Lender's Application Process (LAP). The benefits of integrating these legacy systems will include:

• Improved workflow automation to ensure timely completion of partner eligibility and enrollment processes;

• Improved efficiency in case management;

• A seamless repository of information;

• A scalable and configurable platform that will provide maximum flexibility to meet future needs;

• Reduced risks from leveraging current technologies to replace outdated and unsupported technologies;

• An established base of secure and accessible information;

• More efficient processes to meet internal and external reporting requirements;

• Improved overall program quality by reducing errors; and

• Reduction of the risk of FSA failing to detect a non-compliant partner.

Upon implementation of the IPM system, the PEPS legacy systems will be retired. However, some legacy systems may be kept alive for a short period of time to ensure the continued operation of our business until the new IPM system is fully functional.

Accessible Format: Individuals with disabilities can obtain this document in an accessible format (e.g., braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 3, 2017.
Matthew D. Sessa,
Acting Chief Operating Officer, Federal Student Aid.

For the reasons discussed in the preamble, the Acting Chief Operating Officer of Federal Student Aid (FSA) of the U.S. Department of Education (Department) publishes a notice of a new and a rescinded system of records to read as follows:

RESCINDED SYSTEM NAME AND NUMBER:

Postsecondary Education Participants System (PEPS) (18-11-09) published in the Federal Register on June 4, 1999 (64 FR 30106, 30171-30173), and amended on December 27, 1999 (64 FR 72384, 72405).

NEW SYSTEM NAME AND NUMBER:

Integrated Partner Management (IPM) system (18-11-21).

SECURITY CLASSIFICATION:

None.

SYSTEM LOCATION:

Federal Student Aid Virtual Data Center (VDC), Dell Systems, Plano Technology Center, 2300 West Plano Parkway, Plano, TX 75075.

Effective December 2017, the Department expects to relocate the IPM system to: Hewlett Packard Enterprise Services Mid-Atlantic Data Center (HPES MDC), Federal Student Aid Next Generation Data Center (FSA NGDC), 250 Burlington Drive, Clarkesville, VA 23927.

SYSTEM MANAGER:

Program Director, Integrated Partner Management, Federal Student Aid, U.S. Department of Education, 830 First Street NE., Room 82D4, Washington, DC 20202.

AUTHORITY FOR MAINTENANCE OF THE SYSTEM:

The data collected and stored in the IPM system is authorized under sections 131, 481, 487, and 498 of the Higher Education Act of 1965, as amended (HEA) (20 U.S.C. 1088, 1094, 1099c), and the Debt Collection Improvement Act of 1996 (31 U.S.C. 7701). The collection of Social Security numbers (SSNs) in this system is authorized by 31 U.S.C. 7701 and Executive Order 9397 (November 22, 1943), as amended by Executive Order 13478 (November 18, 2008).

The Government Paperwork Elimination Act (GPEA), Public Law 105-277, 44 U.S.C. 3504 note, Title XVII, Section 1704, requires agencies, by October 21, 2003, to provide the option of electronic submission of information by the public when practicable. The Freedom to E-File Act, E-Government Act, and the President's Management Agenda authorize eGovernment functions as alternatives to traditional paper-based processes.

PURPOSE(S) OF THE SYSTEM:

The information contained in the IPM system will be used for the purposes of determining initial and continued eligibility, administrative capability, and financial responsibility of postsecondary schools, lenders, and guaranty agencies that participate in title IV, HEA student assistance programs, and third-party servicers contracted by these entities; tracking changes to those entities; maintaining a history of this information for all entities that have ever applied to participate or have participated in these programs; documenting any protective or corrective action against an entity or an individual associated with the entity; and establishing the identity of individuals who request access to title IV, HEA Federal student aid systems.

CATEGORIES OF INDIVIDUALS COVERED BY THE SYSTEM:

The IPM system contains records about individual owners (either solely or as partners or shareholders), officials, and individuals acting as authorized agents of postsecondary institutions, lenders, and guaranty agencies that participate in the student assistance programs authorized under title IV of the HEA; members of boards of directors or trustees of such entities; employees of foreign entities that evaluate the quality of education; employees of third-party servicers, including contact persons, that contract with schools, lenders, or guaranty agencies; and individuals affiliated with authorized entities who request electronic access to title IV, HEA student assistance systems.

CATEGORIES OF RECORDS IN THE SYSTEM:

The records in the IPM system will include, but are not limited to, names, taxpayer identification numbers (TINs), and bank account numbers of individuals with substantial ownership interests in, or control over, schools, lenders, guaranty agencies, or third party servicers. The IPM system will also contain SSNs, personal identification numbers assigned by the Department, personal addresses, personal phone numbers, and personal email addresses of the individuals with substantial ownership interests in, or control over, those entities.

Records for individuals affiliated with authorized entities (schools, lenders, guaranty agencies, or third-party servicers) who request electronic access to title IV, HEA student assistance systems will also be included in the system. Such information will include, but is not limited to, the individual's name, SSN, and date of birth, address, phone number, and authentication information (User ID and password).

RECORD SOURCE CATEGORIES:

Information is obtained from applications submitted by postsecondary institutions and other entities that seek to participate in the student financial assistance programs and from components of the Department; from other Federal, State, Tribal, and local governmental agencies; and from non-governmental agencies and organizations that acquire information relevant to the purposes of the IPM system.

ROUTINE USES OF RECORDS MAINTAINED IN THE SYSTEM, INCLUDING CATEGORIES OF USERS AND THE PURPOSES OF SUCH USES:

The Department may disclose information contained in a record in this system of records under the routine uses listed in this system of records without the consent of the individual when the disclosure is compatible with the purposes for which the record was collected. These disclosures may be made on a case-by-case basis or, if the Department has complied with the computer matching requirements of the Privacy Act of 1974, as amended (Privacy Act), under a computer matching agreement (CMA).

The routine uses for the IPM system are as follows:

(1) Program Purposes. The Department may disclose information contained in the IPM system to appropriate guaranty agencies, educational and financial institutions, accrediting agencies, State agencies, and appropriate Federal, State, or local agencies, in order to verify and assist with the determination of eligibility, administrative capability, and financial responsibility of postsecondary institutions that have applied to participate in the student financial assistance programs.

(2) Enforcement Disclosure. In the event that information in this system of records indicates, either on its face or in connection with other information, a violation or potential violation of any applicable statute, regulation, or order of a competent authority, the Department may disclose the relevant records in the IPM system, as a routine use, to the appropriate agency, whether foreign, Federal, State, Tribal, or local, charged with the responsibility of investigating or prosecuting such violation or charged with enforcing or implementing the statute, or executive order or rule, regulation, or order issued pursuant thereto.

(3) Litigation and Alternative Dispute Resolution (ADR) Disclosure.

(a) Introduction. In the event that one of the parties listed below is involved in judicial or administrative litigation or alternative dispute resolution (ADR), or has an interest in judicial or administrative litigation or ADR, the Department may disclose records in the IPM system to the parties described in paragraphs (b), (c), and (d) of this routine use under the conditions specified in those paragraphs:

(i) The Department, or any component of the Department;

(ii) Any Department employee in his or her official capacity;

(iii) Any employee of the Department in his or her individual capacity where the Department of Justice (DOJ) has agreed to or has been requested to provide or arrange for representation for the employee;

(iv) Any employee of the Department in his or her individual capacity where the Department has agreed to represent the employee; or

(v) The United States, where the Department determines that the litigation is likely to affect the Department or any of its components.

(b) Disclosure to the Department of Justice. If the Department determines that disclosure of certain records to the DOJ is relevant and necessary to the judicial or administrative litigation or ADR, the Department may disclose those records as a routine use to the DOJ.

(c) Adjudicative Disclosure. If the Department determines that disclosure of certain records to an adjudicative body before which the Department is authorized to appear, or to an individual or entity designated by the Department or otherwise empowered to resolve or mediate disputes, is relevant and necessary to the judicial or administrative litigation or ADR, the Department may disclose those records as a routine use to that adjudicative body, entity, or individual.

(d) Disclosure to Parties, Counsel, Representatives, or Witnesses. If the Department determines that disclosure of certain records to a party, counsel, representative, or witness is relevant and necessary to judicial or administrative litigation or ADR, the Department may disclose those records as a routine use to the party, counsel, representative or witness.

(4) Employment, Benefit, and Contracting Disclosure.

(a) For decisions by the Department. The Department may disclose records to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For decisions by Other Public Agencies and Professional Organizations. The Department may disclose records to a Federal, State, local, or foreign agency or other public authority or professional organization, in connection with the hiring or retention of an employee or other personnel action, the issuance of a security clearance, the letting of a contract, or the issuance of a license, grant, or other benefit, to the extent that the record is relevant and necessary to the receiving entity's decision on the matter.

(5) Employee Grievance, Complaint, or Conduct Disclosure. The Department may disclose a record in the IPM system to another agency of the Federal government if the record is relevant to a complaint, grievance, disciplinary, or competency determination proceeding regarding a present or former employee of the Department. The disclosure may only be made during the course of the proceeding.

(6) Labor Organization Disclosure. The Department may disclose a record in the IPM system to an arbitrator to resolve disputes under a negotiated grievance procedure or to officials of labor organizations recognized under 5 U.S.C. chapter 71 when relevant and necessary to their duties of exclusive representation.

(7) Freedom of Information Act (FOIA) and Privacy Act Advice Disclosure. The Department may disclose records to the DOJ or the Office of Management and Budget (OMB) if the Department concludes that disclosure is desirable or necessary in determining whether particular records are required to be disclosed under the FOIA or the Privacy Act.

(8) Disclosure to the Department of Justice. The Department may disclose records to the DOJ to the extent necessary for obtaining DOJ advice on any matter relevant to an audit, inspection, or other inquiry related to the programs covered by this system.

(9) Contract Disclosure. If the Department contracts with an entity for the purpose of performing any function that requires disclosure of records in this system to employees of the contractor, the Department may disclose the records to those employees. Before entering into such a contract, the Department shall require the contractor to maintain Privacy Act safeguards as required under 5 U.S.C. 552a(m) with respect to the records in the system.

(10) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(11) Congressional Member Disclosure. The Department may disclose records to a member of Congress from the record of an individual in response to an inquiry from the member made at the written request of that individual. The member's right to the information is no greater than the right of the individual who requested it.

(12) Disclosure to the Office of Management and Budget for Credit Reform Act (CRA) Support. The Department may disclose records to OMB as necessary to fulfill CRA requirements.

(13) Feasibility Study Disclosure. The Department may disclose information from this system of records to other Federal agencies, and to guaranty agencies and to their authorized representatives, to determine whether computer matching programs should be conducted by the Department for purposes such as to locate a delinquent or defaulted debtor or to verify compliance with program regulations.

(14) Disclosure for Use by Other Law Enforcement Agencies. The Department may disclose information to any Federal, State, local, or foreign agency or other public authority responsible for enforcing, investigating, or prosecuting violations of administrative, civil, or criminal law or regulation if that information is relevant to any enforcement, regulatory, investigative, or prosecutorial responsibility within the receiving entity's jurisdiction.

(15) Disclosure in the Course of Responding to a Breach of Data. The Department may disclose records from this system to appropriate agencies, entities, and persons when: (a) The Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

(16) Disclosure in Assisting Another Agency in Responding to a Breach of Data. The Department may disclose records from this system to another Federal agency or entity when the Department determines that information from this system of records is reasonably necessary to assist the recipient agency or entity (1) responding to a suspected or confirmed breach or (2) preventing, minimizing, or remedying the risk of harm to individuals, the recipient agency or entity (including its information systems, programs, and operations), the Federal Government, or national security, resulting from a suspected or confirmed breach.

(17) Disclosure to Third Parties through Computer Matching Programs. Unless otherwise prohibited by other laws, any information from this system of records, including personal information obtained from other agencies through computer matching programs, may be disclosed to any third party through a computer matching program that is conducted under a computer matching agreement between the Department and the third party, and requires that the matching be conducted in compliance with the requirements of the Privacy Act. The purposes of these disclosures may be: (a) To establish or verify program eligibility and benefits; (b) to establish or verify compliance with program regulations or statutory requirements, such as to investigate possible fraud or abuse; and (c) to recoup payments or delinquent debts under any Federal benefit programs, such as to locate or take legal action against a delinquent or defaulted debtor.

(18) Disclosure of Information to U.S. Department of the Treasury (Treasury). The Department may disclose records of this system to (a) a Federal or State agency, its employees, agents (including contractors of its agents), or contractors, or (b) a fiscal or financial agent designated by the Treasury, including employees, agents, or contractors of such agent, for the purpose of identifying, preventing, or recouping improper payments to an applicant for, or recipient of, Federal funds, including funds disbursed by a State in a State-administered, federally funded program; and disclosure may be made to conduct computerized comparisons for this purpose.

POLICIES AND PRACTICES FOR STORAGE OF RECORDS:

The records are maintained in electronic data files on the IPM system servers.

POLICIES AND PRACTICES FOR RETRIEVAL OF RECORDS:

The records in this system are indexed by the name of the institution or organization, and may be retrieved by an identifying number, such as, but not limited to, the Routing ID (RID) of the organization, the Entity Identification Number (EIN), or Partner ID or Data Universal Numbering System (DUNS) of the entity; or the name, SSN, or the TIN of an individual associated with the institution or organization.

POLICIES AND PRACTICES FOR RETENTION AND DISPOSAL OF RECORDS:

Records are retained for 30 years after the final action is completed in accordance with the Department's records retention and disposition schedule 074 FSA Guaranty Agency, Financial & Education Institution Eligibility, Compliance, Monitoring and Oversight Records.

ADMINISTRATIVE, TECHNICAL, AND PHYSICAL SAFEGUARDS:

In accordance with the Federal Information Security Management Act of 2002, as amended by the Federal Information Security Modernization Act of 2014 (FISMA), every Federal Student Aid information system must receive a signed Authority to Operate (ATO) from a designated official. The ATO process includes a rigorous assessment of security controls, a plan of action and milestones to remediate any identified deficiencies, and a continuous monitoring program.

The IPM system controls include a combination of FISMA management, operational, and technical controls, including the following control families: Access control, awareness and training, audit and accountability, security assessment and authorization, configuration management, contingency planning, identification and authentication, incident response, maintenance, media protection, physical and environmental protection, planning, personnel security, privacy, risk assessment, system and services acquisition, system and communications protection, system and information integrity, and program management.

All physical access to the Department's Virtual Data Center system is controlled and monitored by security personnel who check each individual entering the building for his or her employee or visitor badge. The computer system employed by the Department offers a high degree of resistance to tampering and circumvention. This security system limits data access to staff of the Department, schools, guarantors, authorized third-party servicer employees, lenders, accrediting agencies, State agencies, and Department contractors on a “need-to-know” basis, and controls individual users' ability to access and alter records within the system. All users of this system of records are given a unique user ID with personal identifiers. All interactions by individual users with the system are recorded.

RECORD ACCESS PROCEDURES:

You may gain access to any records in the IPM system that pertain to you. This is done by contacting the system manager and following the procedures for notification listed above. You must meet the requirements of 34 CFR 5b.5.

CONTESTING RECORD PROCEDURES:

You may contest the content of a record in the IPM system pertaining to you by presenting to the system manager, either in writing or in person, a request to amend or correct that information. The request to amend, or for an appointment to present an oral request, must be made in writing mailed to the system manager at the address provided above. The request must identify the particular record within the IPM system that you wish to have changed, state whether you wish to have the record amended, corrected, or rescinded, and explain the reasons why you wish to have the record changed. Your request must meet the requirements of the Department's Privacy Act regulations at 34 CFR 5b.7.

NOTIFICATION PROCEDURES:

If you wish to determine whether a record exists regarding you in the IPM system, provide the system manager with your name, date of birth, and SSN. Your request must meet the requirements of the regulations at 34 CFR 5b.5, including proof of identity. You may address your request, or present that request in person, to the system manager at the address above.

DISCLOSURE TO CONSUMER REPORTING AGENCIES:

Disclosures pursuant to 5 U.S.C. 552a(b)(12) (as set forth in 31 U.S.C. 3711(e)): Disclosures may be made from this system to “consumer reporting agencies,” as defined in the Fair Credit Reporting Act (15 U.S.C. 1681a(f)) or the Debt Collection Improvement Act (31 U.S.C. 3701(a)(3)).

EXEMPTIONS PROMULATED FOR THE SYSTEM:

None.

HISTORY:

Pursuant to the requirements of OMB Circular No. A-108, the last full Federal Register publication of the PEPS system of records (18-11-09), which this system of records rescinds and replaces, was published in the Federal Register on June 4, 1999 (64 FR 30106, 30171-30173), and amended on December 27, 1999 (64 FR 72384, 72405).

[FR Doc. 2017-16658 Filed 8-7-17; 8:45 am]

BILLING CODE 4000-01-P